SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before September 13, 2010.

ADDRESSES: Send all comments regarding whether these information collections are necessary for the proper performance of the function of the agency, whether the burden estimates are accurate, and if there are ways to minimize the estimated burden and enhance the quality of the collections, to: Carol Fendler, System Accountant, Office of Investment, Small Business Administration, 409 3rd Street, 8th Floor, Washington, DC 20416.

FOR FURTHER INFORMATION CONTACT: Carol Fendler, System Accountant, Office of Investment, 202-205-7559, carol.fendler@sba.gov, Curtis B. Rich, Management Analyst, 202-205-7030, curtis.rich@sba.gov.

SUPPLEMENTARY INFORMATION: To obtain the information needed to carry out its oversight responsibilities under the Small Business Investment Act, Small Business Administration (SBA) requires licensed small business investment companies to submit financial statements, with supplementary schedules tailored to current regulatory requirements, on SBA Form 468. SBA uses this information to monitor financial condition and regulatory compliance of Small Business Investment Companies (SBIC), and for credit analysis when considering whether to approve requests for financial assistance to SBICs.

Title: “SBIC Financial Reports”.

Description of Respondents: Small Business Investment Companies.

Form Numbers: 468, 468.1, 468.2, 468.3, 468.4.

Annual Responses: 1,265.

Annual Burden: 21,175.

To obtain the information needed to carry out its program evaluation and oversight responsibilities under the Small Business Investment Act. SBA requires licensed small business investment companies to provide information on SBA Form 1031 each time financing is extended to a small business concern. SBA uses this information to complied statistics on the SBIC program as a provider of capital to small business and to monitor the regulator regulatory compliance of individual SBICs.

Title: “Portfolio Financing Report”.

Description of Respondents: Small Business Investment Companies.

Form Number: 1031.

Annual Responses: 3,700.

Annual Burden: 740.

Jacqueline White,
Chief, Administrative Information Branch.

[FR Doc. 2010-16935 Filed 7-13-10; 8:45 am]

BILLING CODE P